DEPARTMENT OF TRANSPORTATION

Federal Aviation Administration

14 CFR Part 71

[Docket No. FAA-2020-0759; Airspace Docket No. 20-ACE-20]

RIN 2120-AA66

Amendment of Class D and Class E Airspace and Establishment of Class E Airspace; Fort Riley and Manhattan, KS

AGENCY: Federal Aviation Administration (FAA), DOT.

ACTION: Final rule.

SUMMARY: This action amends the Class D and Class E airspace at Marshall AAF, Fort Riley, KS, and Manhattan Regional Airport, Manhattan, KS, and establishes Class E airspace extending upward from 700 feet above the surface at Marshall AAF and Freeman Field, Junction City, KS. This action is the result of airspace reviews due to the decommissioning of the Calvary and McDowell Creek non-directional beacons (NDBs). The names and geographic coordinates of the airports and navigational aids are also being updated to coincide with the FAA's aeronautical database.

DATES: Effective 0901 UTC, April 22, 2021. The Director of the Federal Register approves this incorporation by reference action under Title 1 Code of Federal Regulations part 51, subject to the annual revision of FAA Order 7400.11 and publication of conforming amendments.

ADDRESSES: FAA Order 7400.11E, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace, Class E surface airspace, Class E airspace area designated as an extension to Class D and Class E surface airspace, and Class E airspace extending upward from 700 feet above the surface at Manhattan Regional Airport, Manhattan, KS; amends the Class D and Class E surface airspace at Marshall AAF, Fort Riley, KS; and establishes Class E airspace extending upward from 700 feet above the surface at Marshall AAF and Freeman Field, Junction City, KS, to support instrument flight rule operations at these airports.

History

The FAA published a notice of proposed rulemaking in the Federal Register (85 FR 52289; August 25, 2020) for Docket No. FAA-2020-0759 to amend the Class D and Class E airspace at Marshall AAF, Fort Riley, KS, and Manhattan Regional Airport, Manhattan, KS, and establish Class E airspace extending upward from 700 feet above the surface at Marshall AAF and Freeman Field, Junction City, KS. Interested parties were invited to participate in this rulemaking effort by submitting written comments on the proposal to the FAA. One comment was received and the following is provided in response.

The person submitting the comment incorrectly interpreted the NPRM and presumed that the proposed airspace changes would lower the altitudes and change the current flight paths that the aircraft flying to and from Marshall AAF and Manhattan Regional Airport are currently utilizing; however, this is not the case. These airspace changes are updating the airspace and bringing it into compliance with current FAA orders and directives, but are not changing the flight paths or altitudes that the aircraft are currently using. As neither the altitudes nor flight paths of the aircraft are being changed by this airspace amendment as presumed by the commenter, no changes or further action is required in response.

Class D and E airspace designations are published in paragraph 5000, 6002, 6004, and 6005, respectively, of FAA Order 7400.11E, dated July 21, 2020, and effective September 15, 2020, which is incorporated by reference in 14 CFR 71.1. The Class D and E airspace designations listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

Differences From the NPRM

Subsequent to publication and during the FAA charting review, a typographical error was found in the geographic coordinates for the Fort Riley VOR (“long. 96°15′40″W” vice “long. 96°51′40″W”) in the Class D and E airspace legal descriptions; a typographic error was found in the Fort Riley, KS, Class E airspace extending upward from 700 feet above the surface airspace legal description header (“IA” vice “KS”); a reciprocal radial (“216°” vice “036°”) was incorrectly listed in the Fort Riley, KS, Class D and Class E airspace legal descriptions; it was discovered that some airspace extensions listed in the Manhattan, KS, Class E airspace area designated as an extension to Class D and Class E surface airspace and the Fort Riley, KS, and Manhattan, KS, Class E airspace extending upward from 700 feet above the surface airspace legal descriptions were covered by other extensions or Class E airspace and are not required; and there was an omission to the exclusionary language in the Manhattan, KS, Class E airspace area designated as an extension to Class D and Class E surface airspace. As these corrections and the removal of the airspace extensions, which were being added to the existing airspace, do not change the airspace as proposed, they are incorporated into this rule.

The Rule

This amendment to Title 14 Code of Federal Regulations (14 CFR) part 71:

Amending the Class D airspace to within a 3.9-mile radius (increased from a 3.7-mile radius) of Marshall AAF, Fort Riley, KS; adding an extension 1.1 miles each side of the 036° radial (corrected from 216°) from the Fort Riley VOR extending from the 3.9-mile radius to 4.7 miles southwest of the airport; adding an extension 1 mile each side of the 220° bearing from the airport extending from the 3.9-mile radius to 4 miles southwest of the airport; updating the name (previously Marshall Army Airfield) and geographic coordinates of the airport to coincide with the FAA's aeronautical database; removing the cities associated with the airports to comply with changes to FAA Order 7400.2M, Procedures for Handling Airspace Matters; and replacing the outdated term “Airport/Facility Directory” with “Chart Supplement”;

Amending the Class D airspace to within a 4.3-mile radius (increased from a 4.2-mile radius) of Manhattan Regional Airport, Manhattan, KS; removing the Manhattan VOR/DME and McDowell Creek NDB from the airspace legal description as they are not required; updating the name (previously Manhattan Municipal Airport) and geographic coordinates of the airport to coincide with the FAA's aeronautical database; and replacing the outdated term “Airport/Facility Directory” with “Chart Supplement”;

Amending the Class E surface area to within a 3.9-mile radius (increased from a 3.7-mile radius) of Marshall AAF; removing the current extension from the Fort Riley VOR, as it is no longer required; removing the Calvary NDB and associated extension from the airspace legal description; adding an extension 1.1 miles each side of the 036° (corrected from 216°) radial from the Fort Riley VOR extending from the 3.9-mile radius to 4.7 miles southwest of the airport; adding an extension 1 mile each side of the 220° bearing from the airport extending from the 3.9-mile radius to 4 miles southwest of the airport; updating the name (previously Marshall Army Airfield) and geographic coordinates of the airport to coincide with the FAA's aeronautical database; removing the cities associated with the airports to comply with changes to FAA Order 7400.2M; and replacing the outdated term “Airport/Facility Directory” with “Chart Supplement”;

Amending the Class E surface area to within a 4.3-mile radius (increased from a 4.2-mile radius) of Manhattan Regional Airport; updating the name (previously Manhattan Municipal Airport) and geographic coordinates of the airport to coincide with the FAA's aeronautical database; and adding part-time verbiage to the airspace legal description that was previously omitted;

Amending the Class E airspace area designated as an extension to Class D and Class E surface airspace at Manhattan Regional Airport by removing the McDowell NDB and associated extensions from the airspace legal description; removing the extension to the southeast of the VOR/DME, as it is no longer needed; adding an extension 1.3 miles each side of the 042° radial from the Manhattan VOR/DME extending from the 4.3-mile radius of the airport to 5.2 miles northeast of the airport; adding an extension 2.4 miles each side of the 211° radial from the Manhattan VOR/DME extending from the 4.3-mile radius of the airport to 7 miles southwest of the Manhattan VOR/DME; and updating the name (previously Manhattan Municipal Airport) and geographic coordinates of the airport to coincide with the FAA's aeronautical database;

Establishing Class E airspace extending upward from 700 feet above the surface within a 6.4-mile radius of Marshall AAF; and within a 6.4-mile radius of Freeman Field, Junction City, KS, excluding that airspace within Restricted Areas R-3602A and R-3602B;

And amending the Class E airspace extending upward from 700 feet above the surface within a 6.8-mile radius (increased from a 6.7-mile radius) of Manhattan Regional Airport; removing the McDowell NDB and associated extensions from the airspace legal description; removing the extensions southeast of the VOR/DME, as they are no longer required; removing the HATAN OM and Manhattan Municipal Airport ILS and associated extensions, as they are no longer required; adding an extension 4 miles each side of the 040° bearing from the airport extending from the 6.8-mile radius of the airport to 10.6 miles northeast of the airport; removing the extension northeast of the VOR/DME (This extension was previously amended in the NPRM, but is covered by the previous listed extension.) as it is no longer required; and updating the name (previously Manhattan Municipal Airport) and geographic coordinates of the airport to coincide with the FAA's aeronautical database.

This action is due to airspace reviews caused by the decommissioning of the Calvary and McDowell Creek NDBs, which provided navigational information to the instrument procedures at these airports.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 5000. Class D Airspace.

* * * * *

ACE KS D Fort Riley, KS [Amended]

Marshall AAF, KS

(Lat. 39°03′10″ N, long. 96°45′52″ W)

Freeman Field, KS

(Lat. 39°02′36″ N, long. 96°50′36″ W)

Fort Riley VOR

(Lat. 38°58′13″ N, long. 96°51′40″ W)

That airspace extending upward from the surface to and including 3,600 feet MSL within a 3.9-mile radius of the Marshall AAF, and within 1.1 miles each side of the 036° radial from the Fort Riley VOR extending from the 3.9-mile radius of Marshall AAF to 4.7 miles southwest of Marshall AAF, and within 1 mile each side of the 220° bearing from Marshall AAF extending from the 3.9 mile radius of Marshall AAF to 4 miles southwest of Marshall AAF excluding that airspace within Restricted Area R-3602B and excluding that airspace within a 1-mile radius of Freeman Field. This Class D airspace area is effective during the specific dates and times established in advance by a Notice to Airmen. The effective date and time will thereafter be continuously published in the Chart Supplement.

* * * * *

ACE KS D Manhattan, KS [Amended]

Manhattan Regional Airport, KS

(Lat. 39°08′28″ N, long. 96°40′19″ W)

That airspace extending upward from the surface to and including 3,600 feet MSL within a 4.3-mile radius of Manhattan Regional Airport excluding that airspace within the Fort Riley, KS, Class D airspace and Class E surface airspace areas and excluding that airspace within Restricted Area R-3602B. This Class D airspace area is effective during the specific dates and times established in advanced by a Notice to Airmen. The effective date and time will thereafter be continuously published in the Chart Supplement.

Paragraph 6002. Class E Airspace Areas Designated as a Surface Area.

* * * * *

ACE KS E2 Fort Riley, KS [Amended]

Marshall AAF, KS

(Lat. 39°03′10″ N, long. 96°45′52″ W)

Freeman Field, KS

(Lat. 39°02′36″ N, long. 96°50′36″ W)

Fort Riley VOR

(Lat. 38°58′13″ N, long. 96°51′40″ W)

That airspace extending upward from the surface within a 3.9-mile radius of the Marshall AAF, and within 1.1 miles each side of the 036° radial from the Fort Riley VOR extending from the 3.9-mile radius of Marshall AAF to 4.7 miles southwest of Marshall AAF, and within 1 mile each side of the 220° bearing from Marshall AAF extending from the 3.9 mile radius of Marshall AAF to 4 miles southwest of Marshall AAF excluding that airspace within Restricted Area R-3602B and excluding that airspace within a 1-mile radius of Freeman Field. This Class E airspace area is effective during the specific dates and times established in advance by a Notice to Airmen. The effective date and time will thereafter be continuously published in the Chart Supplement.

* * * * *

ACE KS E2 Manhattan, KS [Amended]

Manhattan Regional Airport, KS

(Lat. 39°08′28″ N, long. 96°40′19″ W)

That airspace extending upward from the surface within a 4.3-mile radius of Manhattan Regional Airport excluding that airspace within the Fort Riley, KS, Class D airspace and Class E surface airspace areas and excluding that airspace within Restricted Area R-3602B. This Class E airspace area is effective during the specific dates and times established in advanced by a Notice to Airmen. The effective date and time will thereafter be continuously published in the Chart Supplement.

Paragraph 6004. Class E Airspace Areas Designated as an Extension to a Class D or Class E Surface Area.

* * * * *

ACE KS E4 Manhattan, KS [Amended]

Manhattan Regional Airport, KS

(Lat. 39°08′28″ N, long. 96°40′19″ W)

Manhattan VOR/DME

(Lat. 39°08′44″ N, long. 96°40′07″ W)

That airspace extending upward from the surface within 1.3 miles each side of the 042° radial from the Manhattan VOR/DME extending from the 4.3-mile radius of the Manhattan Regional Airport to 5.2 miles northeast of the airport, and within 2.4 miles each side of the 211° radial from the Manhattan VOR/DME extending from the 4.3-mile radius of the Manhattan Regional Airport to 7 miles southwest of the Manhattan VOR/DME excluding that airspace within the Fort Riley, KS, Class D airspace and Class E surface airspace areas and excluding that airspace within Restricted Area R-3602B.

Paragraph 6005. Class E Airspace Areas Extending Upward From 700 Feet or More Above the Surface of the Earth.

* * * * *

ACE KS E5 Fort Riley, KS [Establish]

Marshall AAF, KS

(Lat. 39°03′10″ N, long. 96°45′52″ W)

Freeman Field, KS

(Lat. 39°02′36″ N, long. 96°50′36″ W)

That airspace extending upward from 700 feet above the surface within a 6.4-mile radius of Marshall AAF, and within a 6.4-mile radius of Freeman Field excluding that airspace within Restricted Areas R-3602A and R-3602B.

* * * * *

ACE KS E5 Manhattan, KS [Amended]

Manhattan Regional Airport, KS

(Lat. 39°08′28″ N, long. 96°40′19″ W)

That airspace extending upward from 700 feet above the surface within a 6.8-mile radius of the Manhattan Regional Airport, and within 4 miles each side of the 040° bearing from the Manhattan Regional Airport extending from the 6.8-mile radius of the airport to 10.6 miles northeast of the airport excluding that airspace within Restricted Areas R-3602A and R-3602B.

Issued in Fort Worth, Texas, on January 13, 2021.
Martin A. Skinner,
Acting Manager, Operations Support Group,ATO Central Service Center.

[FR Doc. 2021-01020 Filed 1-19-21; 8:45 am]

BILLING CODE 4910-13-P